DEPARTMENT OF COMMERCE

National Oceanic and Atmospheric Administration

[I.D. 011100D]

Fisheries of the Exclusive Economic Zone Off Alaska; Recordkeeping and Reporting Requirements; American Fisheries Act Reporting Requirements

AGENCY: National Marine Fisheries Service (NMFS), National Oceanic and Atmospheric Administration (NOAA), Commerce.

ACTION: Notice of effectiveness of data collection.

SUMMARY: NMFS is announcing that information collection requirements were approved.

DATES: Effective February 16, 2000.

FOR FURTHER INFORMATION CONTACT: Kent Lind, 907-586-7228.

SUPPLEMENTARY INFORMATION: The information collection requirements contained in paragraphs 679.5(a)(4)(iv), 679.5(f)(3), 679.5(f)(4), 679.5(i)(1)(iii), 679.5(o), and 679.60(d), which were contained in the emergency interim rule to to implement major provisions of the American Fisheries Act (65 FR 4520, January 28, 2000), were approved by the Office of Management and Budget. These requirements are in effect as of February 16, 2000.

Dated: February 23, 2000.
Bruce C. Morehead,
Acting Director, Office of Sustainable Fisheries, National Marine Fisheries Service.

[FR Doc. 00-4693 Filed 2-28-00; 8:45 am]

BILLING CODE 3510-22-F